INTERNATIONAL TRADE COMMISSION

[USITC SE-09-021]

Government in the Sunshine Act Meeting Notice

Agency Holding the Meeting: United States International Trade Commission.

Time and Date: July 20, 2009 at 1 p.m.

Place: Room 101, 500 E Street, SW., Washington, DC 20436, Telephone: (202) 205-2000.

Status: Open to the public.

Matters To Be Considered

1. Agenda for future meetings: none.

2. Minutes.

3. Ratification List.

4. Inv. Nos. 701-TA-466 and 731-TA-1162 (Preliminary)(Wire Decking from China)—briefing and vote. (The Commission is currently scheduled to transmit its determinations to the Secretary of Commerce on July 20, 2009; Commissioners' opinions are currently scheduled to be transmitted to the Secretary of Commerce on or before July 27, 2009.)

5. Outstanding action jackets: none.

In accordance with Commission policy, subject matter listed above, not disposed of at the scheduled meeting, may be carried over to the agenda of the following meeting. Earlier announcement of this meeting was not possible.

Issued: July 13, 2009.
By order of the Commission.
William R. Bishop,
Hearings and Meetings Coordinator.

[FR Doc. E9-16957 Filed 7-14-09; 11:15 am]

BILLING CODE 7020-02-P